DEPARTMENT OF COMMERCE

National Institute of Standards and Technology

[Docket Number: 101015516-0516-02]

Technology Innovation Program (TIP) Seeks Comments on White Papers

AGENCY: National Institute of Standards and Technology (NIST), Department of Commerce.

ACTION: Notice.

SUMMARY: The National Institute of Standards and Technology's (NIST) Technology Innovation Program (TIP) announces that it is seeking comments on white papers prepared by TIP staff from any interested party, including academia; Federal, State, and local governments; industry; national laboratories; and professional organizations/societies; and others. Comments will assist in the further refinement of areas of critical national need and the associated technical challenges that could be addressed in future TIP competitions.

DATES: The dates for submission of comments on white papers are: October 29, 2010 through September 30, 2011.

ADDRESSES: The white papers are available on TIP's Web site at http://www.nist.gov/tip/wp/index.cfm. Comments on white papers may be submitted using the comment button found on the first and last page of each white paper found on TIP's Web site at http://www.nist.gov/tip/wp/index.cfm.

FOR FURTHER INFORMATION CONTACT: Thomas Wiggins at 301-975-5416 or by e-mail at thomas.wiggins@nist.gov.

SUPPLEMENTARY INFORMATION: Background Information: The Technology Innovation Program (TIP) at the National Institute of Standards and Technology (NIST) was established for the purpose of assisting U.S. businesses and institutions of higher education or other organizations, such as national laboratories and nonprofit research institutions, to support, promote, and accelerate innovation in the United States through high-risk, high-reward research in areas of critical national need. The TIP statutory authority is Section 3012 of the America Creating Opportunities to Meaningfully Promote Excellence in Technology, Education, and Science (COMPETES) Act, Public Law 110-69 (August 9, 2007), codified at 15 U.S.C. 278n. The TIP implementing regulations are published at 15 CFR Part 296. TIP holds competitions for funding based on addressing areas of critical national need. TIP identifies and selects topics for areas of critical national need based on input from within NIST, the TIP Advisory Board, the science and technology communities, and from the public. TIP is interested in receiving input on the identification and definition of problems that are sufficiently large in magnitude that they have the potential to inhibit the growth and well-being of our nation today.

This announcement explains the process for submitting comments on TIP white papers. Comments on white papers from experts in other Federal agencies are also valued and welcome, and will enable TIP to complement the efforts of other mission agencies and avoid duplication of their efforts, thereby leveraging resources to benefit the nation. The key concepts enumerated below are the foundation of TIP and should assist all commenters in providing input that will help TIP develop and refine an effective white paper:

a. An area of critical national need means an area that justifies government attention because the magnitude of the problem is large and the associated societal challenges that need to be overcome are not being addressed, but could be addressed through high-risk, high-reward research.

b. A societal challenge is a problem or issue confronted by society that when not addressed could negatively affect the overall function and quality of life of the nation, and as such, justifies government attention. A societal challenge is associated with barriers preventing the successful development of solutions to the area of critical national need. TIP's purpose is to provide funding that will enable U.S. businesses and institutions of higher education or other organizations, such as national laboratories and nonprofit research institutions, to tackle technical issues that can be addressed through high-risk, high-reward research. The results of the high-risk, high-reward research should have the potential for transformational results.

c. A transformational result is a potential project outcome that enables disruptive changes over and above current methods and strategies. Transformational results have the potential to radically improve our understanding of systems and technologies, challenging the status quo of research approaches and applications.

For an understanding of how these white papers were developed, and for detailed instructions on how to prepare and submit your own white papers to TIP, refer to A Guide for Preparing and Submitting White Papers on Areas of Critical National Need. The Guide is available on the TIP Web site at http://www.nist.gov/tip/wp/upload/guide_for_white_papers.pdf.

In this call for comments on white papers, TIP is seeking information to further develop and refine the areas of critical national need that were the subject of prior TIP competitions as well as the topic areas under development for future TIP competitions. TIP may use comments received to further develop the definition and scope of the critical national needs suggested by these topic areas, and to additionally identify and explain specific societal challenges that require a technical solution within these critical national need areas. Do not include ideas for specific proposals in your comments on the white paper (i.e., do not discuss your specific solution to the problem). This solicitation for comments on white papers is neither a Request for Proposals (RFP) nor a request for pre-proposals. Rather, it is a way to include ideas from the public to identify problems that justify government support and that can be addressed by technological innovations that are not currently being sufficiently supported to meet the challenge.

Comments on white papers must not contain proprietary information. Submission of comments on a white paper means that the author(s) agrees that all the information in the comments on the white paper can be made available to the public. Information contained in submitted comments will be considered and combined with information from other resources—including the vision of the Administration, NIST, other government agencies, technical communities, the TIP Advisory Board, and other members of the public—to develop the scope of future competitions and to shape TIP's collaborative outreach. Comments on white papers are a valuable resource that adds to TIP's understanding of the significance and scope of critical national needs and associated societal challenges.

This current call for comments pertains to the white papers that describe the areas of critical national need as described in the FY 2010 TIP competition and the FY 2009 TIP competition, as well as four proposed critical national need topic areas, as described below.

FY 2010 Competition

In the FY 2010 TIP competition, the topic of Manufacturing was identified as an area of critical national need. The topic area of Manufacturing, based on the white paper Manufacturing and Biomanufacturing: Materials Advances and Critical Processes, built on the two societal challenges addressed in the FY 2009 TIP competition, which was entitled Accelerating the Incorporation of Materials Advances into Manufacturing Processes, and included a third societal challenge for critical process advances in manufacturing and biomanufacturing. The focus of this competition was on the challenges associated with agile or intelligent manufacturing, sustainable manufacturing processes, specific manufacturing processes, specifically (1) process scale-up, integration, and design for materials advances; (2) predictive modeling for materials advances and materials processing; and (3) critical process advances. The white paper that was used in the FY 2010 TIP competition for the topic area of Manufacturing can be found at http://www.nist.gov/tip/wp/index.cfm.

FY 2009 Competition

In the FY 2009 TIP competition, the topic area of Civil Infrastructure was identified as an area of critical national need. The topic area of Civil Infrastructure, based on the white paper Advanced Sensing Technologies and Advanced Repair Materials for Infrastructure: Water Systems, Dams, Levees, Bridges, Roads, and Highways, dated March 2009, emphasized technologies to detect corrosion, cracking, delamination and other structural damage as well as repair/retrofit materials and technologies, in water resources systems such as water and wastewater pipelines, dams, levees and waterway locks, as well as bridges and roadways. The white paper that was used in the FY 2009 TIP competition for the topic area of Civil Infrastructure can be found at http://www.nist.gov/tip/wp/index.cfm.

Proposed Topic Areas

Water: The proposed topic area within the critical national need of Water is based on the draft white paper, Water: New Technologies for Managing and Ensuring Future Water Availability, which outlines the technologies that will be required to lead to improved means for better managing the quality and quantity of delivered-water supplies and for protecting the public from waterborne disease sources. Better tools are required: for environmentally benign disposition of brines and waste streams from desalination and water reclamation projects; for low-cost methods for removal of emerging contaminants from wastewater streams and from water distribution systems; for resource recovery from wastewater; and for transformative improvements in the energy costs of producing water from non-freshwater sources. The draft white paper for the proposed topic of Water can be found at http://www.nist.gov/tip/wp/index.cfm.

Advanced Robotics and Intelligent Automation: The proposed topic area Advanced Robotics and Intelligent Automation focuses on an area of critical national need in Manufacturing, it also potentially impacts other application areas such as healthcare and homeland security. The proposed Manufacturing topic Advanced Robotics and Intelligent Automation is a draft white paper that outlines infrastructural technologies that will be required for this industry to supply the next generation of solutions to manufacturers. Potential solutions that have been discussed include new techniques for manipulation and handling objects; new approaches for navigation in unstructured environments; new strategies for monitoring and controlling groups of robots; new technologies and approaches for the seamless integration of the various subsystems that make up a robot or intelligent automation system; new power and energy storage technology; new approaches to communication; and new methods for ensuring safe interactions between robots and humans. The draft white paper for the proposed topic of Advanced Robotics and Intelligent Automation can be found at http://www.nist.gov/tip/wp/index.cfm.

Energy: The proposed topic area within the critical national need area of Energy is based on the draft white paper, Technologies to Enable a Smart Grid, which outlines the technologies that will be required to enable a reliable smart grid approach to electric power distribution, demand, and response control, grid connectivity, and the integration of renewable energy sources into the grid. The proposed topic aims to address research in energy storage systems and the integration of stored energy into the grid system, advanced sensors and their energy sources to be deployed along the grid, communication and control technologies (high voltage power electronics), and modeling. The draft white paper for the proposed topic of Energy can be found at http://www.nist.gov/tip/wp/index.cfm.

Healthcare: The proposed topic area with the critical national need of Healthcare is based on the draft white paper Advanced Technologies for Proteomics, Data Integration and Analysis and Biomanufacturing for Personalized Medicine, which outlines the platform technologies that will be needed to enable a personalized approach to safer and more cost-effective healthcare. The proposed topic specifically aims to address research needs for: non-invasively analyzing proteins in real-time in live tissues, animal models and humans; linking genomic, proteomic and other disparate datasets with patient-specific data to understand disease susceptibility and response to treatment; and cost-effective high-throughput biopharmaceutical manufacturing. The draft white paper for the proposed topic of Healthcare can be found at http://www.nist.gov/tip/wp/index.cfm.

Dated: October 20, 2010.
Harry Hertz,
Director, Baldrige Performance Excellence Program.

[FR Doc. 2010-27449 Filed 10-28-10; 8:45 am]

BILLING CODE 3510-13-P